DEPARTMENT OF VETERANS AFFAIRS

[OMB Control No. 2900-0376]

Agency Information Collection Activities Under OMB Review

AGENCY: Veterans Health Administration, Department of Veterans Affairs.

ACTION: Notice.

SUMMARY: In compliance with the Paperwork Reduction Act (PRA) of 1995 (44 U.S.C. 3501-21), this notice announces that the Veterans Health Administration (VHA), Department of Veterans Affairs, has submitted the collection of information abstracted below to the Office of Management and Budget (OMB) for review and comment. The PRA submission describes the nature of the information collection and its expected cost and burden and includes the actual data collection instrument.

DATES: Comments must be submitted on or before April 22, 2004.

FOR FURTHER INFORMATION OR A COPY OF THE SUBMISSION CONTACT: Denise McLamb, Records Management Service (005E3), Department of Veterans Affairs, 810 Vermont Avenue, NW., Washington, DC 20420, (202) 273-8030, FAX (202) 273-5981 or e-mail to: denise.mclamb@mail.va.gov. Please refer to “OMB Control No. 2900-0376.”

Send comments and recommendations concerning any aspect of the information collection to VA's OMB Desk Officer, OMB Human Resources and Housing Branch, New Executive Office Building, Room 10235, Washington, DC 20503, (202) 395-7316. Please refer to “OMB Control No. 2900-0376” in any correspondence.

SUPPLEMENTARY INFORMATION: Title: Agent Orange Registry Code Sheet, VA Form 10-9009.

OMB Control Number: 2900-0376.

Type of Review: Extension of a currently approved collection.

Abstract: VA in an on-going effort to maintain an Agent Orange Registry (AOR) developed a reporting format to facilitate the collection of information obtained from veterans during the Agent Orange registry examination process. VA is required to organize and update the information contained in AOR to enable VA to notify Vietnam era veterans who served in the Republic of Vietnam of any increased health risks resulting from exposure to dioxin or other toxic agents. VA may also provide, upon request, a health examination, consultation, and counseling to a veteran who is eligible for listing or inclusion in any health-related registry administered by VA that are similar to the Persian Gulf War Veterans Health Registry. Registry examinations are provided to veterans who served in Korea in 1968 or 1969, and/or any U.S. veteran who may have been exposed to dioxin, or other toxic substances in a herbicide or defoliant, during the conduct of, or as a result of, the testing, transporting, or spraying of herbicides, and who requests an Agent Orange Registry examination. The information obtained from the veteran during the interview is entered on VA Form 10-9009, Agent Orange Registry Code Sheet. The registry will provide a mechanism to catalogue prominent symptoms, reproductive health, and diagnoses and to communicate with Agent Orange veterans. VA informs the veterans on research findings or new compensation policies through periodic newsletters. The registry is not designed or intended to be a research tool and therefore the results cannot be generalized to represent all Agent Orange veterans.

An agency may not conduct or sponsor, and a person is not required to respond to a collection of information unless it displays a currently valid OMB control number. The Federal Register notice with a 60-day comment period soliciting comments on this collection of information was published on November 7, 2003, at page 63193.

Affected Public: Individuals or households.

Estimated Total Annual Burden: 12,000 hours.

Estimated Average Burden Per Respondent: 20 minutes.

Frequency of Response: On occasion.

Estimated Number of Respondents: 36,000.

By direction of the Secretary.
Dated: March 11, 2004.
Jacqueline Parks,
IT Specialist, Records Management Service.

[FR Doc. 04-6465 Filed 3-22-04; 8:45 am]

BILLING CODE 8320-01-P